INTER-AMERICAN FOUNDATION

Sunshine Act Meetings

FEDERAL REGISTER CITATION OF PREVIOUS ANNOUNCEMENT: 88 FR 84348 (December 5, 2023).

PREVIOUSLY ANNOUNCED TIME AND DATE OF THE MEETING: December 11, 2023, 1:30 p.m. EST.

CHANGES IN THE MEETING: This meeting has been cancelled.

CONTACT PERSON FOR MORE INFORMATION: Nicole Stinson, Associate General Counsel, (202) 683-7117 or nstinson@iaf.gov.

(Authority: 5 U.S.C. 552b.)

Dated: December 8, 2023.
Natalia Mandrus,
Associate General Counsel.

[FR Doc. 2023-27359 Filed 12-8-23; 4:15 pm]

BILLING CODE 7025-01-P